DEPARTMENT OF HEALTH AND HUMAN SERVICES

National Institutes of Health

Proposed Collection; Comment Request; The National Epidemiologic Survey on Alcohol and Related Conditions

SUMMARY: Under the provisions of Section 3507(a)(1)(D) of the Paperwork Reduction Act of 1995, the National Institute on Alcohol Abuse and Alcoholism (NIAAA), the National Institutes of Health (NIH) has submitted to the Office of Management and Budget (OMB) a request for review and approval of the information collection listed below. This proposed information collection was previously published in the Federal Register on September 25, 2003, page 55396 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: The National Epidemiologic Survey on Alcohol and Related Conditions. Type of Information Collection Request: REVISION, OMB No. 0925-0484, expiration date, 3/31/2004. Need and Use of Information Collection: This study will determine the incidence of alcohol use disorders in a representative sample of the United States population with the primary purpose of estimating the extent and distribution of alcohol consumption, alcohol use disorders and their associated psychological and medical disabilities across major sociodemographic subgroups. The primary objectives of this second wave of this longitudinal study is to understand the relationships between alcohol consumption, alcohol use disorders and their related disabilities with a view towards designing more effective treatment and intervention programs. The findings will provide valuable information concerning: (1) The relationship between alcohol use disorders use disorders and their related disabilities in subgroups of the population of special concern; (2) identification of subgroups at high risk for alcohol use disorders that may be complicated by associated psychological and medical disabilities; (3) incidence of alcohol use disorders and their associated disabilities with a view toward understanding their natural history; (4) treatment utilization of alochol use disorders in order to determine unmet treatment need and linguistic, social, economic and cultural barriers to treatment; (5) the college-aged segment of the population at high risk for binge drinking and its adverse consequences; and (6) the identification of safe and hazardous levels of drinking as they relate to the development of alcohol use disorders and their associated disabilities. Frequency of Response: On occasion. Affected Public: Individuals. Type of Respondents: Adults. The annual reporting burden is as follows: Estimated Number of Respondents: 43,093. Estimated Number of Responses per Respondent: 1; Average Burden Hours Per Response: 1.00; and Estimated Total Annual Burden Hours Requested: 43,093. The annualized cost to respondents is estimated at: $776,000.00. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methdology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Bridget Grant, Chief, Laboratory of Biometry and Epidemiology, Division of Intramural Clinical and Biological Research, NIAAA, NIH, Willco Building, Suite 514, 6000 Executive Boulevard, Bethesda, Maryland 20892-7003, or call non-toll-free number (301) 443-7370 or E-mail your request, including your address to: Bgrant@willco.niaaa.nih.gov.

Comments Due Date

Comments regarding this information collection are best assured of having their full effect if received within 30 days of the date of this publication.

Dated: December 15, 2003.
Stephen Long,
Executive Officer, NIAAA.

[FR Doc. 03-31321 Filed 12-18-03; 8:45 am]

BILLING CODE 4140-01-M